DEPARTMENT OF ENERGY

Federal Energy Regulatory Commission

[Project No. 2634-054]

Great Lakes Hydro America, LLC; Notice of Application for Amendment of License and Soliciting Comments, Motions To Intervene, and Protests

September 19, 2008.

Take notice that the following application has been filed with the Commission and is available for public inspection.

a. Application Type: Amendment to Recreation Plan.

b. Project No.: 2634-054.

c. Dated Filed: July 14, 2008.

d. Applicant: Great Lakes Hydro America, LLC.

e. Name of Project: Storage Hydroelectric Project.

f. Location: The project is located on the West and South Branch of the Penobscot River in Piscataquis and Somerset Counties, Maine.

g. Filed Pursuant to: Federal Power Act, 16 U.S.C. 791(a)-825(r).

h. Application Contact: Kevin Bernier, FERC Compliance Specialist, Great Lakes Hydro America, LLC, 1024 Central Street, Millinocket, Maine 04462, telephone: (207) 723-4341, fax: (207) 723-4597.

i. FERC Contact: Any questions on this notice should be addressed to Gina Krump at (202) 502-6704, or e-mail address: gina.krump@ferc.gov.

j. Deadline for filing comments and/or motions: October 20, 2008.

All documents (original and eight copies) should be filed with: Kimberly D. Bose, Secretary, Federal Energy Regulatory Commission, 888 First Street, NE., Washington, DC 20426.

k. Description of Request: The licensee filed an amendment application to remove the requirement to provide a boat launch and parking area at the Caucomgomoc Lake from the approved recreation plan, issued April 19, 2006. The licensee proposes to develop an area at Harrington Lake, which would be outside the project boundary and not under the Commission's jurisdiction.

l. Location of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's e-mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST, or “MOTION TO INTERVENE”, as applicable, and the Project Number (P-6066-031) of the particular application to which the filing refers. All documents (original and eight copies) should be filed with: Honorable Kimberly D. Bose, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically, via the Internet in lieu of paper. See, 18 CFR 385.2001(a)(1)(iii) and the instructions on the Commission's Web site at http://www.ferc.gov under the “e-Filing” link.

Kimberly D. Bose,
Secretary.

[FR Doc. E8-22624 Filed 9-25-08; 8:45 am]

BILLING CODE 6717-01-P